DEPARTMENT OF HOMELAND SECURITY

Coast Guard

33 CFR Part 165

[Docket No. USCG-2009-0144]

Safety Zone; Chicago Harbor, Navy Pier Southeast, Chicago, IL

AGENCY: Coast Guard, DHS.

ACTION: Notice of enforcement.

SUMMARY: The Coast Guard will enforce the Navy Pier Southeast Safety Zone in Chicago Harbor in April 2009. This action is necessary to protect vessels and people from the hazards associated with fireworks displays. This safety zone will restrict vessel traffic from a portion of the Captain of the Port Lake Michigan Zone.

DATES: The regulations in 33 CFR 165.931 will be enforced from 7:30 p.m. through 8:30 p.m. on April 4, 2009, and from 7:30 p.m. through 8:30 p.m. on April 11, 2009.

FOR FURTHER INFORMATION CONTACT: LCDR Bannan, Prevention Department, Coast Guard Sector Lake Michigan, Milwaukee, WI, at (414) 747-7154.

SUPPLEMENTARY INFORMATION: The Coast Guard will enforce the Safety Zone, Navy Pier Southeast, Chicago Harbor, Chicago, IL, 33 CFR 165.931, for the following events:

(1) Navy Pier Private Party; on April 4, 2009, from 7:30 p.m. through 8:30 p.m.

(2) Navy Pier Private Party; on April 11, 2009, from 7:30 p.m. through 8:30 p.m.

All vessels must obtain permission from the Captain of the Port or designated representative to enter, move within, or exit the safety zone. Vessels and persons granted permission to enter the safety zone shall obey all lawful orders or directions of the Captain of the Port or designated representative. While within the safety zone, all vessels shall operate at the minimum speed necessary to maintain a safe course.

This notice is issued under authority of 33 CFR 165.931, Safety Zone, Navy Pier Southeast, Chicago Harbor, Chicago, IL (72 FR 32520, Jun. 13, 2007), and 5 U.S.C. 552(a). In addition to this notice in the Federal Register, the Coast Guard will provide the maritime community with advance notification of these enforcement periods via broadcast Notice to Mariners and Local Notice to Mariners.

The Captain of the Port will issue a Broadcast Notice to Mariners notifying the public when enforcement of the safety zone established by this section is suspended. The Captain of the Port may be contacted via U.S. Coast Guard Sector Lake Michigan on channel 16, VHF-FM.

Dated: March 9, 2009.
Bruce C. Jones,
Captain, U.S. Coast Guard, Captain of the Port Lake Michigan.

[FR Doc. E9-6809 Filed 3-25-09; 8:45 am]

BILLING CODE 4910-15-P